DEPARTMENT OF TRANSPORTATION

Surface Transportation Board

[STB Finance Docket No. 34798]

City of Alameda—Acquisition Exemption—Alameda Beltline Railroad

The City of Alameda (the City), a noncarrier, has filed a verified notice of exemption under 49 CFR 1150.31 to acquire the line of railroad owned by the Alameda Beltline Railroad (ABL).

The earliest the transaction could have been consummated was December 16, 2005 (7 days after filing the notice), but, as noted below, the effectiveness of the exemption has been stayed pending further order of the Board.

The City certifies that its projected revenues as a result of this transaction will not result in the creation of a Class II or Class I rail carrier.

If the verified notice contains false or misleading information, the exemption is void ab initio. Petitions to revoke the exemption under 49 U.S.C. 10502(d) may be filed at any time. The filing of a petition to revoke will not automatically stay the transaction.

On December 15, 2005, ABL filed a petition to stay the effectiveness of the exemption sought by the City through the filing of its notice under section 1150.31. On December 15, 2005, the Board granted a housekeeping stay of the effective date of the exemption in this proceeding to allow time for the parties to provide additional information, and for the Board to consider the issues presented in the stay request. The exemption is stayed until further order of the Board, and each party has been given until January 17, 2006, to file additional pleadings.

An original and 10 copies of all pleadings, referring to STB Finance Docket No. 34798, must be filed with the Surface Transportation Board, 1925 K Street, NW., Washington, DC 20423-0001. In addition, a copy of each pleading must be served on: (1) Charles A. Montange, 426 NW., 162nd Street, Seattle, WA 98177; and (2) Sidney L. Strickland, Jr., Sidney Strickland and Associates, PLLC, 3050 K Street, NW., Suite 101, Washington, DC 20007.

Board decisions and notices are available on our Web site at http://www.stb.dot.gov.

Decided: January 5, 2006.
By the Board, David M. Konschnik, Director, Office of Proceedings.
Vernon A. Williams,
Secretary.

[FR Doc. E6-142 Filed 1-10-06; 8:45 am]

BILLING CODE 4915-01-P